DEPARTMENT OF COMMERCE

National Oceanic and Atmospheric Administration

Initiation of Review of Management Plan for Olympic Coast National Marine Sanctuary; Intent To Conduct Scoping and Prepare Draft Environmental Analysis and Draft Management Plan

AGENCY: Office of National Marine Sanctuaries (ONMS), National Ocean Service (NOS), National Oceanic and Atmospheric Administration (NOAA), Department of Commerce (DOC).

ACTION: Initiation of review of management plan; intent to conduct scoping and prepare environmental analysis under the National Environmental Policy Act.

SUMMARY: In accordance with section 304(e) of the National Marine Sanctuaries Act, as amended (NMSA), NOAA is initiating a review of the Olympic Coast National Marine Sanctuary (OCNMS or sanctuary) management plan, to evaluate substantive progress toward implementing the goals of the sanctuary, and to make revisions to the management plan as necessary to fulfill the purposes and policies of the NMSA. NOAA anticipates management plan changes will require preparation of an environmental analysis under the National Environmental Policy Act (NEPA). NOAA will conduct public scoping meetings to gather information and other comments from individuals, organizations, tribes, and government agencies on the scope, types, and significance of issues related to the OCNMS management plan and the proper scope of environmental analysis for the management plan review. The scoping meetings are scheduled as detailed in the DATES section.

DATES: Written comments should be received on or before April 3, 2023.

Public scoping meetings will be held on:

(1) Date: February 21, 2023, Location: Pacific Beach Elementary School Gymnasium, 11 4th St. S, Pacific Beach, WA, Time: 5-8 p.m.

(2) Date: February 22, 2023, Location: Rainforest Art Center, 35 North Forks Avenue, Forks, WA, Time: 5-8 p.m.

(3) Date: February 23, 2023, Location: Makah Community Gym, 1394 Bayview Ave., Neah Bay, WA, Time: 5-8 p.m.

(4) Date: February 24, 2023, Location: Pirate Union Building Cafeteria, Peninsula College Longhouse, 1502 E Lauridsen Blvd., Port Angeles, WA, Time: 5-8 p.m.

(5) Date: February 27, 2023, Location: See details online at: https://olympiccoast.noaa.gov/management/mpr. Time: 5 p.m.-TBD.

NOAA will be taking audio recordings of the public meetings, including the public comment portion of the meetings. NOAA may end a meeting before the time noted above if all those participating have completed their oral comments.

ADDRESSES: Comments may be submitted by the following method:

Electronic Submission: Federal eRulemaking Portal: https://www.regulations.gov. Submit electronic comments via the Federal eRulemaking Portal and search for Docket Number NOAA-NOS-2023-0003.

Mail: Written comments may also be mailed to Olympic Coast National Marine Sanctuary (Management Plan Review), 115 Railroad Ave. East, Suite 301, Port Angeles, WA 98362.

Public Scoping Meetings: Provide oral comments during public scoping meetings, as described under DATES. Registration details and additional information about how to participate in these public scoping meetings are available at https://olympiccoast.noaa.gov/management/mpr.

Instructions: All comments received are a part of the public record, and the entirety of the comment, including the name of the commenter, email address, attachments, and other supporting materials will be publicly accessible. Do not submit confidential business information or otherwise sensitive or protected information such as account numbers or Social Security numbers. NOAA will accept anonymous comments through regulations.gov (enter N/A in the required fields to remain anonymous).

FOR FURTHER INFORMATION CONTACT: Kevin Grant, Olympic Coast National Marine Sanctuary, 115 Railroad Ave. East, Suite 301, Port Angeles, WA 98362, or see https://olympiccoast.noaa.gov/management/mpr.

SUPPLEMENTARY INFORMATION:

I. Background

Olympic Coast National Marine Sanctuary (OCNMS or sanctuary) was designated in July 1994. It spans 3,188 square miles of marine waters off the rugged coast of the Olympic Peninsula, covering much of the continental shelf and the heads of several major submarine canyons, with seasonal upwelling that supports locally abundant marine life and seasonal populations of marine mammals and seabirds. Along its shores are thriving kelp and intertidal communities, teeming with fishes and other sea life. In the darkness of the seafloor, scattered communities of deep-sea coral and sponges form habitats for fish and other marine wildlife.

In addition to important ecological resources, the Olympic Coast has a rich cultural and historical legacy. The sanctuary is located within the boundaries of the legally defined usual and accustomed (U&A) fishing areas of four coastal tribes with reserved treaty rights. These rights were reserved by the tribes via treaties that the United States Government signed with the Makah Tribe under the 1855 Treaty of Neah Bay and the Hoh Tribe, Quileute Tribe, and Quinault Indian Nation under the 1856 Treaty of Olympia, long before OCNMS was designated. The vibrant contemporary communities of these sovereign nations, often referred to as the Coastal Treaty Tribes, have forged inseparable ties to the ocean environment, maintaining traditions of the past while navigating the challenges of the present and future.

The current OCNMS management plan was published in 2011, and is available on the internet here: https://olympiccoast.noaa.gov/management/2011-plan/.

In 2018, NOAA completed an internal assessment of the 2011 management plan to gauge progress toward its goals and objectives. This internal assessment showed that the action plans of the 2011 management plan accurately reflected the ongoing management priorities and resource protection issues and were adequate to continue guiding OCNMS operations and programs. Input was solicited from Sanctuary Advisory Council members and staff during the internal assessment process.

The OCNMS management plan review may result in proposed changes to existing programs and policies to address contemporary issues and challenges, and to better protect and manage the sanctuary's resources and qualities. The review process is composed of four major stages: (1) information collection and characterization including through a public scoping process; (2) preparation and release of a draft management plan and a draft environmental analysis conducted under NEPA, and any proposed amendments to sanctuary regulations; (3) public review and comment on the draft documents; and (4) preparation and release of a final management plan and environmental analysis document, and any final amendments to sanctuary regulations, if applicable. NOAA will also address other statutory and regulatory requirements that may be required pursuant to the Endangered Species Act (ESA), Marine Mammal Protection Act, Essential Fish Habitat (EFH) provisions of the Magnuson-Stevens Fishery Conservation and Management Act (Magnuson-Stevens Act), Coastal Zone Management Act (CZMA), National Historic Preservation Act (NHPA), and tribal consultation responsibilities under Executive Order 13175.

II. Treaty Trust Responsibility

The treaty trust responsibility of the sanctuary to the Hoh, Makah, and Quileute tribes, and Quinault Indian Nation, is articulated in several judicial decisions, OCNMS regulations, and in Executive Order 13175 of November 6, 2000, Consultation and Coordination With Indian Tribal Governments. NOAA recognizes the preexisting treaty rights of the Makah Tribe through the 1855 Treaty of Neah Bay and of the Hoh Tribe, Quileute Tribe, and the Quinault Indian Nation through the 1856 Treaty of Olympia, and supports the active exercise of tribal treaty rights. NOAA's trust responsibility to each of the Coastal Treaty Tribes will help guide the management plan review.

III. Condition Report

To inform the OCNMS management plan review, NOAA recently updated the OCNMS Condition Report, which was first published in 2008. The Condition Report released in March 2022 assessed the period from 2008-2019 and presented summary information describing the status and trends of sanctuary resources, covering the broad categories of human activities and pressures, water quality, habitat, living resources, and maritime heritage resources. This report also included the status and trends of ecosystem services—the ways humans derive benefits from different ecosystem attributes that they care about for their lives and livelihoods. The report is available to the general public on the internet at: https://sanctuaries.noaa.gov/science/condition/ocnms/.

IV. Preliminary Priority Topics

NOAA has prepared a list of preliminary priority topics to consider during the OCNMS management plan review process. NOAA is interested in receiving public comment on these topics and any other topics of interest that are relevant to the OCNMS management plan review. It is important to emphasize that this list does not preclude or in any way limit the consideration of additional topics raised through public comments, government-to-government consultations, and discussions with partner agencies.

Partnerships and Coordinated Management

Given its broad geographic scope and mission of the sanctuary, NOAA depends on partnerships to act as a force multiplier in overall stewardship efforts for the Olympic Coast. Active partnerships also provide a more transparent and inclusive structure for management of Olympic Coast marine resources within tribal, local, state, federal, and international jurisdictions, and enable a collaborative and coordinated approach to sanctuary management. For example, the Olympic Coast Intergovernmental Policy Council remains an important forum through which NOAA engages with the four Coastal Treaty Tribes and the state of Washington in their role as governments and co-managers of resources. NOAA seeks input on how the sanctuary can enhance its partnerships with entities in these various jurisdictions for more effective management and stewardship of Olympic Coast resources. In addition, NOAA welcomes input as to what new or strengthened partnerships would help other entities leverage the sanctuary's capabilities with regard to its research, resource protection, and education and outreach programs.

Changing Ocean Conditions

Ongoing changes to the climate and marine ecosystems of the Olympic Coast have been documented, yet there continues to be considerable uncertainty about current and future consequences at local, ecosystem, and ocean-wide scales. Drawing in part from the sanctuary's long-term oceanographic monitoring program, NOAA has observed changes in the coastal ecosystem off the Olympic Coast that may worsen in intensity, duration, and frequency in the future as a result of climate change. Specific concerns include the impacts of hypoxia (low dissolved oxygen levels), ocean acidification, harmful algal blooms, ocean warming and marine heatwaves. NOAA is interested in ideas regarding how to best incorporate climate change research, adaptation and mitigation efforts into the OCNMS management plan, including ways to enhance coordination with partners, as well as input on the types of monitoring data and efforts that would be the most effective to aid adaptive management.

Resource Monitoring and Assessments

Assessing and monitoring the conditions of sanctuary resources, both natural and cultural, are a critical part of sanctuary management. Related research and monitoring efforts have always been a major focus for the sanctuary, and are often collaborative. Primary research programs for the sanctuary include long term oceanographic monitoring of changing ocean conditions, ecosystem monitoring in intertidal habitats and kelp forests, seafloor mapping, deep-sea habitat exploration and characterization, and acoustic monitoring of underwater sound. Staff also collaborate on maritime and cultural heritage projects and support social science research efforts. Given the many needs and possibilities as well as limited resources, it is imperative to further focus NOAA's efforts on data that it is uniquely positioned to gather and share. NOAA seeks input on what research and monitoring efforts would be most beneficial and informative for resource (natural and cultural) management decisions, including those of its partners, and how it can improve data-sharing.

Compatible Resource Use

Facilitating sustainable human use of the sanctuary in a manner compatible with the objectives of OCNMS and the NMSA is an important sanctuary responsibility. While NOAA generally does this through permitting and NMSA section 304(d) consultations, the potential impacts of various uses, particularly emergent technologies, on the seafloor and other habitats, wildlife, and other sanctuary resources are not always fully understood. Examples of human uses which may provide broad public benefits but also potentially impact sanctuary resources include: commercial development such as offshore renewable energy, aquaculture, fiber-optic cables, and emergent technologies such as carbon capture and the use of uncrewed systems (e.g., drones) as tools for research and monitoring. NOAA seeks input regarding which human activities have the most potential to impact sanctuary resources, what those potential impacts may be, and the means by which the sanctuary can best monitor, address, and/or mitigate those impacts.

Wildlife Disturbance

NOAA remains concerned about acoustic, physical, and visual disturbances caused by human activities in the sanctuary, as they can have physical and behavioral impacts on wildlife above, below, and on the water surface. Wildlife responses to disturbance include flushing birds from their nesting roosts, flushing of marine mammals from haul out areas, other behavioral changes, or even death. Sources of wildlife disturbance in the sanctuary include low-flying aircraft, motorized personal watercraft, fireworks, close proximity to wildlife aggregation areas (by land, water, or air), and other human-generated noises from activities such as shipping, military exercises, or seismic exploration. NOAA seeks input regarding which human activities have the most potential to disturb wildlife and the means by which the sanctuary can best monitor, address, and/or mitigate such disturbances.

Water Quality

NOAA strives to maintain and improve water quality in the region. Although water quality within the sanctuary is generally good as described in the 2022 Condition Report, NOAA remains concerned regarding the potential for contamination through vessel discharges (e.g., ballast water and treated or raw sewage) and through the unintentional introduction of petroleum products, pathogens, and chemicals. There are also several contaminants of concern (e.g., microplastics) that enter marine waters through wastewater treatment plants, stormwater outfalls and runoff, industrial outfalls, and landfills. NOAA is interested in the public's views regarding what human activities and sources have the most potential to impact water quality in the sanctuary, what those potential impacts may be, and the means by which the sanctuary can best monitor, address, and/or mitigate those impacts.

Introduced Species

Although relatively few non-indigenous species have been reported in sanctuary waters, introduced species can pose a threat to marine life and habitats. For example, introduced European green crabs were first identified in habitats adjacent to the sanctuary in 2017 and their populations have exploded since then, which presents a rapidly emerging threat to native species as well as to the shellfish industry in Washington state. European green crabs compete with native species and damage nearshore habitats, which often serve as important nursery areas for species like salmon and Dungeness crab. NOAA seeks input regarding how the sanctuary can best contribute to partner efforts aimed at management of introduced species.

Education and Outreach

Enhancing the public's awareness and appreciation of the Olympic Coast's natural and cultural resources is a cornerstone of the sanctuary's mission. NOAA is seeking input on the effectiveness of the sanctuary's current education and outreach programs and ideas regarding how to continue to expand public awareness, including opportunities to participate in environmental research and monitoring, integrating outreach into all education levels, and more effective partnering with tribes, federal and state agencies, local businesses and organizations, and other user groups.

IV. Boundary and Regulatory Changes

In preparing for public scoping, NOAA has not identified the need for any changes to OCNMS boundaries. However, NOAA is interested in public input on the adequacy of existing boundaries to protect sanctuary resources, and other regulatory changes. Regulatory changes and/or boundary modifications may be considered based on a review of public scoping comments and, if proposed, would be presented for public review with the publication of a proposed rulemaking prior to any finalization and implementation.

V. Public Comments

NOAA is interested in receiving input on:

○ The effectiveness of the existing management plan in meeting both the mandates of the NMSA and OCNMS goals and objectives.

○ The effectiveness of OCNMS programs, including programs focused on resource protection; education and outreach; and research and monitoring.

○ NOAA's implementation of OCNMS regulations and issuance of permits.

○ The existing operational and administrative framework at OCNMS (staffing, offices, vessels, capabilities, infrastructure, etc.).

○ The relevance and timeliness of the management issues identified above.

VI. Federal Consultations

This document also advises the public that NOAA will coordinate its consultation responsibilities under section 7 of the ESA, EFH under the Magnuson-Stevens Act, section 106 of the NHPA (16 U.S.C. 470), and Federal Consistency review under the CZMA. Through its ongoing NEPA process and the use of NEPA documents and public and stakeholder meetings, NOAA will also coordinate compliance with other federal laws.

In fulfilling its responsibility under the NHPA and NEPA, NOAA intends to identify consulting parties; identify historic properties and assess the effects of the undertaking on such properties; initiate formal consultation with the State Historic Preservation Officer, the Advisory Council of Historic Preservation, and other consulting parties; involve the public in accordance with NOAA's NEPA procedures; and develop in consultation with identified consulting parties alternatives and proposed measures that might avoid, minimize, or mitigate any adverse effects on historic properties and describe them in any environmental analysis.

Executive Order 13175, “Consultation and Coordination with Indian Tribal Governments” (November 6, 2000), requires each Federal agency to establish procedures for meaningful consultation and coordination with tribal officials in the development of Federal policies that have tribal implications. NOAA will initiate communication and consultation with tribal officials pursuant to Executive Order 13175, Department of Commerce tribal consultation policies, and NOAA procedures for government-to-government consultation with federally-recognized Indian Tribes. As previously noted, the sanctuary's trust responsibility to each of the Coastal Treaty Tribes will help guide the management plan review.

Authority: 16 U.S.C. 1431 et seq.

John Armor,
Director, Office of National Marine Sanctuaries, National Ocean Service, National Oceanic and Atmospheric Administration.

[FR Doc. 2023-01682 Filed 1-30-23; 8:45 am]

BILLING CODE 3510-NK-P